DEPARTMENT OF EDUCATION

[Catalog of Federal Domestic Assistance (CFDA) Number: 84.101A.]

Proposed Waiver and Extension of the Project Period for the Native American Career and Technical Education Program

AGENCY: Office of Career, Technical, and Adult Education, Department of Education.

ACTION: Proposed waiver and extension of the project period.

SUMMARY: For the Native American Career and Technical Education Program (NACTEP), the Secretary proposes to: (1) Waive the requirements that generally prohibit project period extensions involving the obligation of additional Federal funds; and (2) extend the project periods for current NACTEP grantees for up to an additional 24 months. This proposed extension and waiver would enable the 31 current NACTEP grantees to request and continue to receive Federal funding annually for fiscal year (FY) 2016 and possibly through FY 2017.

DATES: We must receive your comments on or before March 12, 2015.

ADDRESSES: Address all comments regarding this proposed extension and waiver to Gwen Washington, Room 11076, or Linda Mayo, Room 11075, U.S. Department of Education, 400 Maryland Avenue SW., Potomac Center Plaza (PCP), Washington, DC 20202-7241.

If you prefer to send your comments by email, use one of the following addresses: gwen.washington@ed.gov or linda.mayo@ed.gov. You must include the term “Proposed Waiver and Extension for NACTEP” in the subject line of your message.

FOR FURTHER INFORMATION CONTACT: Gwen Washington, telephone: (202) 245-7790, or by email at: gwen.washington@ed.gov; or Linda Mayo, telephone: (202) 245-7792, or by email at: linda.mayo@ed.gov.

If you use a telecommunications device for the deaf or a text telephone, call the Federal Relay Service, toll free, at 1-800-877-8339.

SUPPLEMENTARY INFORMATION: Invitation to Comment: We invite you to submit comments regarding this proposed waiver and extension of the project period.

During and after the comment period, you may inspect all public comments about this proposed waiver and extension in room 11076 or Room 11075, PCP, 550 12th Street SW., Washington, DC, between the hours of 8:30 a.m. and 4:00 p.m., Washington, DC time, Monday through Friday of each week, except Federal holidays.

Assistance to Individuals with Disabilities in Reviewing the Rulemaking Record: On request, we will supply an appropriate accommodation or auxiliary aid to an individual with a disability who needs assistance to review the comments or other documents in the public rulemaking record for this notice. If you want to schedule an appointment for this type of aid, please contact one of the persons listed under FOR FURTHER INFORMATION CONTACT.

Background

NACTEP, authorized by section 116 of the Carl D. Perkins Career and Technical Education Act of 2006 (Act), provides grants to improve career and technical education programs that benefit Native Americans and Alaska Natives. The Act also provides that NACTEP should build on the efforts of States and localities to develop challenging academic and technical standards and to assist students in meeting such standards, including preparation for high-skill, high-wage, or high-demand occupations in emerging or established professions (20 U.S.C. 2301(1)). In addition, programs are required to provide technical assistance that promotes leadership, initial preparation, and professional development and improves the quality of career and technical education teachers, faculty, administrators, and counselors (20 U.S.C. 2301(5)). NACTEP programs generally support partnerships among secondary schools, postsecondary institutions, baccalaureate degree-granting institutions, area career and technical education schools, local workforce investment boards, business and industry, and intermediaries, as well as provide, in conjunction with other education and training programs, individuals with opportunities throughout their lives to develop the knowledge and skills needed to keep the United States competitive (20 U.S.C. 2301(6) and (7)).

On February 26, 2013, we published in the Federal Register (78 FR 13030) a notice inviting applications for NACTEP grants (2013 NIA) to operate career and technical education programs, as authorized by section 116(a) through (g) of the Act (20 U.S.C. 2326(a)-(g)). Although the Secretary invited applications with a proposed project period of five years in previous NACTEP competitions, in 2013, in anticipation of congressional reauthorization of the Act, the Department invited applications with proposed project periods of two years. The project periods for the 31 NACTEP projects funded under the 2013 NIA are scheduled to end in FY 2015. Because there is the potential for changes in the authorizing legislation for NACTEP beyond 2015, we do not believe it would be in the public interest to hold a new competition in FY 2015 for projects that may operate for only one year or to announce a competition under which eligible entities would be expected to proceed through the application preparation and submission process while lacking critical information about the future of the program. Further, we do not think that it would be in the public interest to have a lapse in the services currently provided by the NACTEP grantees.

For these reasons, the Secretary proposes to waive the requirements of 34 CFR 75.261(a) and (c)(2) that generally prohibit project period extensions involving the obligation of additional Federal funds. The Secretary also proposes to extend the NACTEP project period for up to 24 months. The proposed waiver and extension would allow the current NACTEP grantees to request and continue to receive Federal funding annually for project periods through FY 2016 and possibly through FY 2017. We intend to fund the extended project period by using funds appropriated for FY 2015 or FY 2016, depending on whether the grants are extended for one or two years.

If the waiver of the requirements of 34 CFR 75.261(a) and (c)(2) that we propose in this notice is announced by a notice of final waiver and extension of the project period published in the Federal Register: (1) The requirements applicable to continuation awards for current NACTEP grantees set forth in the 2013 NIA and the requirements in 34 CFR 75.253 would apply to any continuation awards sought by current NACTEP grantees; (2) we will make decisions regarding annual continuation awards based on grantee program narratives, budgets and budget narratives, and performance reports and the requirements in 34 CFR 75.253; and (3) we will not announce a new grant competition or make new awards in FY 2015.

The proposed waiver and project period extension would not exempt the current NACTEP grantees from the appropriation account closing provisions of 31 U.S.C. 1552(a), nor would they extend the availability of funds previously awarded to current NACTEP grantees. As a result of 31 U.S.C. 1552(a), appropriations available for a limited period may be used for payment of valid obligations for only five years after the expiration of their period of availability for Federal obligation. After that time, the unexpended balance of those funds is canceled and returned to the U.S. Department of the Treasury and is unavailable for restoration for any purpose (31 U.S.C. 1552(b)).

Regulatory Flexibility Act Certification

The Secretary certifies that the proposed waiver and extension and the activities required to support additional years of funding would not have a significant economic impact on a substantial number of small entities. The entities that would be affected by the proposed waiver and extension are the 31 grantees selected based on the 2013 NIA and currently receiving Federal funds and any other potential applicants.

The Secretary certifies that the proposed waiver and extension would not have a significant economic impact on these entities because the extension of an existing project imposes minimal compliance costs, and the activities required to support the additional year of funding would not impose additional regulatory burdens or require unnecessary Federal supervision.

Paperwork Reduction Act of 1995

This notice of proposed waiver and extension does not contain any information collection requirements.

Intergovernmental Review

The NACTEP is not subject to Executive Order 12372 and the regulations in 34 CFR part 79.

Accessible Format: Individuals with disabilities can obtain this document in an accessible format (e.g., braille, large print, audiotape, or compact disc) on request to one of the contact persons listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at this site.

You may also access documents of the Department published in the Federal Register by using the article search feature at: www.federalregister.gov. Specifically, through the advanced search feature at this site, you can limit your search to documents published by the Department.

Dated: February 4, 2015.
Johan E. Uvin,
Acting Assistant Secretary for Career, Technical, and Adult Education.

[FR Doc. 2015-02725 Filed 2-9-15; 8:45 am]

BILLING CODE 4000-01-P